DEPARTMENT OF COMMERCE

National Oceanic and Atmospheric Administration

[I.D. 022805A]

Mid-Atlantic Fishery Management Council; Tilefish Fishery; Meetings

AGENCY: National Marine Fisheries Service (NMFS), National Oceanic and Atmospheric Administration (NOAA), Commerce.

ACTION: Notice of scoping meetings.

SUMMARY: The Mid-Atlantic Fishery Management Council announces its intention to hold scoping meetings to seek public comment on issues to be addressed when developing Amendment 1 to the Tilefish Fishery Management Plan pursuant to the Magnuson Stevens Fishery Conservation and Management Act of 1976, as amended. The purpose of these scoping meetings is to solicit input on management issues to be included in Amendment 1.

DATES: Public scoping meetings will be held on Monday, March 21, 2005, at 7 p.m. and Tuesday March 22, 2005, at 7 p.m.

ADDRESSES: Two scoping meetings will be held in March. Dates, times, and locations of the scoping meetings are scheduled as follows:

1. Monday, March 21, 2005, at 7 p.m. — The Southampton Inn, 91 Hill Street, Southampton, NY 11968 (telephone 631-283-6500).

2. Tuesday, March 22, 2005, at 7 p.m. — Clarion Hotel and Convention Center-Atlantic City West, 6821 Black Horse Pike, Atlantic City, EHT, NJ 08234 (telephone 800-782-9237 or 609-272-0200).

FOR FURTHER INFORMATION CONTACT: Mr. Daniel T. Furlong, Executive Director, Mid-Atlantic Fishery Management Council, 300 S. New Street Suite 2115, Dover, DE 19904 (telephone 302-674-2331).

SUPPLEMENTARY INFORMATION: It is anticipated that the following issues will be discussed at these meetings: (1) The possible implementation of an individual fishing quota system; (2) consideration of possible new methods to collect landings information for the commercial fishery; (3) recreational management measures; (4) a required minimum hook size and/or hook configuration in the commercial tilefish fishery; and (5) methods to allow new entrants into the commercial fishery as the stock recovers.

Special Accommodations

These meetings are physically accessible to people with disabilities. Requests for sign language interpretation or other auxiliary aids should be directed to Debbie Donnangelo at the Mid-Atlantic Council, telephone (302) 674-2331, at least 5 days prior to the meeting date.

Dated: February 28, 2005.
Alan D. Risenhoover,
Acting Director, Office of Sustainable Fisheries, National Marine Fisheries Service.

[FR Doc. E5-840 Filed 3-2-05; 8:45 am]

BILLING CODE 3510-22-S